DEPARTMENT OF THE INTERIOR

Bureau of Land Management

[LLWY-957400-09-L14200000-BJ0000-TRST]

Notice of Filing of Plats of Survey, Wyoming

AGENCY: Bureau of Land Management, Interior.

ACTION: Notice of Filing of Plats of Survey, Wyoming.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the subdivisional lines and a portion of the subdivision of section 10, and the survey of the subdivision of section 11, and the metes and bounds surveys of certain parcels, Township 1 South, Range 4 East, of the Wind River Meridian, Wyoming, Group No. 787, was accepted July 27, 2009.

The plat and field notes representing the dependent resurvey of a portion of the Second Standard Parallel North, through Range 2 East, the subdivisional lines and adjusted meanders of the right bank of South Fork Owl Creek, and the survey of the subdivision of section 35, Township 9 North, Range 2 East, of the Wind River Meridian, Wyoming, Group No. 788, was accepted July 27, 2009.

The plat and field notes representing the dependent resurvey of a portion of the subdivisional lines and a portion of the subdivision of section 9, and the metes and bounds survey of Parcel A, section 9, Township 1 South, Range 2 East, of the Wind River Meridian, Wyoming, Group No. 789, was accepted July 27, 2009.

Copies of the preceding described plats and field notes are available to the public at a cost of $1.10 per page.

Dated: July 27, 2009.
John P. Lee,
Chief Cadastral Surveyor, Division of Support Services.

[FR Doc. E9-18287 Filed 7-30-09; 8:45 am]

BILLING CODE 4310-22-P